DEPARTMENT OF LABOR

Employment and Training Administration

[NAFTA-5412]

Laser Tool, Saegertown, PA; Notice of Termination of Investigation

Pursuant to Title V of the North American Free Trade Agreement Implementation Act (Pub. L. 103-1 concerning transitional adjustment assistance, hereinafter called NAFTA-TAA and in accordance with section 250(a), subchapter D, Chapter 2, Title II, of the Trade Act of 1974, as amended (19 U.S.C. 2331), an investigation was initiated on October 12, 2001, in response to a petition filed by the company on behalf of workers at Laser Tool, Saegertown, Pennsylvania. Workers produce plastic injection molds and manifolds.

The petitioner has requested that the petition be withdrawn. Consequently, further investigation in this case would serve no purpose, and the investigation has been terminated.

Signed at Washington, DC this 26th day of November, 2001.
Linda G. Poole,
Certifying Officer, Division of Trade Adjustment Assistance.

[FR Doc. 01-31143 Filed 12-17-01; 8:45 am]

BILLING CODE 4510-30-M